ENVIRONMENTAL PROTECTION AGENCY

40 CFR Part 52

[EPA-R08-OAR-2014-0369; FRL-9932-90-Region 8]

Approval and Promulgation of Air Quality Implementation Plans; State of Utah; Revisions to the Utah Division of Administrative Rules, R307-300 Series; Area Source Rules for Attainment of Fine Particulate Matter Standards

AGENCY: Environmental Protection Agency.

ACTION: Proposed rule.

SUMMARY: The Environmental Protection Agency (EPA) is proposing approval and conditional approval of portions of the fine particulate matter (PM2.5) State Implementation Plan (SIP) and other general rule revisions submitted by the State of Utah. The revisions affect the Utah Division of Administrative Rules (DAR), R307-300 Series; Requirements for Specific Locations; the revisions had submission dates of February 2, 2012, May 9, 2013, June 8, 2013, February 18, 2014, April 17, 2014, May 20, 2014, July 10, 2014, August 6, 2014, and December 9, 2014. These area source rules control emissions of direct PM2.5 and PM2.5 precursors, sulfur dioxides (SO2), nitrogen oxides (NOx) and volatile organic compounds (VOC). Additionally, the EPA will be proposing to approve the State's reasonably available control measure (RACM) determinations for the rule revisions that pertain to the PM2.5 SIP. This action is being taken under section 110 of the Clean Air Act (CAA or Act).

DATES: Written comments must be received on or before September 24, 2015.

ADDRESSES: Submit your comments, identified by EPA-R08-OAR-2014-0369, by one of the following methods:

• http://www.regulations.gov. Follow the online instructions for submitting comments.

• Email: ostigaard.crystal@epa.gov.

• Fax: (303) 312-6064 (please alert the individual listed in the FOR FURTHER INFORMATION CONTACT if you are faxing comments).

• Mail: Director, Air Program, EPA, Region 8, Mailcode 8P-AR, 1595 Wynkoop Street, Denver, Colorado 80202-1129.

• Hand Delivery: Director, Air Program, EPA, Region 8, Mailcode 8P-AR, 1595 Wynkoop Street, Denver, Colorado 80202-1129. Such deliveries are only accepted Monday through Friday, 8:00 a.m. to 4:30 p.m., excluding federal holidays. Special arrangements should be made for deliveries of boxed information.

Instructions: Direct your comments to Docket ID No. EPA-R08-OAR-2014-0369. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA, without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption and be free of any defects or viruses. For additional instructions on submitting comments, go to Section I. General Information of the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy. Publicly-available docket materials are available at http://www.regulations.gov or at the EPA Region 8, Office of Partnerships and Regulatory Assistance, Air Program, 1595 Wynkoop Street, Denver, Colorado, 80202-1129. EPA requests that you contact the individual listed in the FOR FURTHER INFORMATION CONTACT section to view the hard copy of the docket. You may view the hard copy of the docket Monday through Friday, 8:00 a.m. to 4:00 p.m., excluding federal holidays. An electronic copy of the State's SIP compilation is also available at http://www.epa.gov/region8/air/sip.html.

FOR FURTHER INFORMATION CONTACT: Crystal Ostigaard, Air Program, EPA, Region 8, Mailcode 8P-AR, 1595 Wynkoop Street, Denver, Colorado 80202-1129, (303) 312-6602, ostigaard.crystal@epa.gov.

SUPPLEMENTARY INFORMATION:

I. General Information

a. Submitting CBI. Do not submit CBI to EPA through http://www.regulations.gov or email. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

b. Tips for Preparing Your Comments. When submitting comments, remember to:

i. Identify the rulemaking by docket number and other identifying information (subject heading, Federal Register date and page number).

ii. Follow directions—The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity or personal threats.

viii. Make sure to submit your comments by the comment period deadline identified.

II. Background

A. Regulatory Background

On October 17, 2006 (71 FR 61144), the EPA strengthened the level of the 24-hour PM2.5 National Ambient Air Quality Standards (NAAQS), lowering the primary and secondary standards from 65 micrograms per cubic meter (µg/m³), the 1997 standard, to 35µg/m³. On November 13, 2009 (74 FR 58688), the EPA designated three nonattainment areas in Utah for the 24-hour PM2.5 NAAQS of 35 µg/m³. These are the Salt Lake City, UT; Provo, UT; and Logan, UT-ID nonattainment areas. The EPA originally designated these areas under CAA title I, part D, subpart 1, which required Utah to submit an attainment plan for each area no later than three years from the date of their nonattainment designations. These plans needed to provide for the attainment of the PM2.5 standard as expeditiously as practicable, but no later than five years from the date the areas were designated nonattainment.

Subsequently, on January 4, 2013, the U.S. Court of Appeals for the District of Columbia held that the EPA should have implemented the 2006 PM2.5 24-hour standard based on both CAA title I, part D, subpart 1 and subpart 4. Under subpart 4, nonattainment areas are initially classified as moderate, and moderate area attainment plans must address the requirements of subpart 4 as well as subpart 1. Additionally, CAA subpart 4 sets a different SIP submittal due date and attainment year. For a moderate area, the attainment SIP is due 18 months after designation and the attainment year is the end of the sixth calendar year after designation. On June 2, 2014 (79 FR 31566), the EPA finalized the Identification of Nonattainment Classification and Deadlines for Submission of State Implementation Plan (SIP) Provisions for the 1997 Fine Particulate (PM2.5) National Ambient Air Quality Standard (NAAQS) and 2006 PM2.5 NAAQS (“the Classification and Deadline Rule”). This rule classified to moderate the areas that were designated in 2009 as nonattainment, and set the attainment SIP submittal due date for those areas at December 31, 2014. This rule did not affect the moderate area attainment date of December 31, 2015.

On March 23, 2015, the EPA proposed the Fine Particulate Matter National Ambient Air Quality Standards: State Implementation Plan Requirements (“PM2.5 Implementation Rule”), 80 FR 15340, which partially addresses the January 4, 2013 court ruling. This proposed rule details how air agencies should meet the statutory SIP requirements that apply under subparts 1 and 4 to areas designated nonattainment for any PM2.5 NAAQS, such as: General requirements for attainment plan due dates and attainment demonstrations; provisions for demonstrating reasonable further progress; quantitative milestones; contingency measures; Nonattainment New Source Review (NNSR) permitting programs; and RACM (including reasonably available control technology (RACT)), among other things. The statutory attainment planning requirements of subparts 1 and 4 were established to ensure that the following goals of the CAA are met: (i) That states implement measures that provide for attainment of the PM2.5 NAAQS as expeditiously as practicable; and, (ii) that states adopt emissions reduction strategies that will be the most effective, and the most cost-effective, at reducing PM2.5 levels in nonattainment areas.

The PM2.5 Implementation Rule proposed a process for states to determine the control strategy for PM2.5 attainment plans. The process consists of identifying all technologically and economically feasible control measures, including control technologies for all sources of direct PM2.5 and PM2.5 precursors in the emissions inventory for the nonattainment area which are not otherwise exempted from consideration for controls.¹ From that list of measures, the state must identify those that it can implement within four years of designation of the area (and which would thus meet the statutory requirements for RACM and RACT) and any “additional reasonable measures,” which EPA is proposing in the PM2.5 Implementation Rule to define as those technologically and economically feasible measures that the state can only implement on sources in the nonattainment area after the four year deadline for RACM and RACT has passed. See proposed 40 CFR 51.1000.

¹ Such exemptions could be due to a demonstrated lack of significant contribution of a certain PM2.5 precursor to the area's elevated PM2.5 concentrations or due to a presumptive determination that a certain source category contributes only a de minimis amount toward PM2.5 levels in a nonattainment area.

B. RACT and RACM Requirements for PM2.5 Attainment Plans

Section 172(c)(1) of the Act (from subpart 1) requires that attainment plans, in general, provide for the implementation of all RACM as expeditiously as practicable (including RACT) and shall provide for attainment of the national primary ambient air quality standards. Section 189(a)(1)(C) (from subpart 4) requires moderate area attainment plans to contain provisions to assure that RACM is implemented no later than four years after designation.

The EPA stated its interpretation of the RACT and RACM requirements of subparts 1 and 4 in the 1992 General Preamble for the Implementation of Title I of the Clean Air Act Amendments of 1990, 57 FR 13498 (Apr. 6, 1992). For RACT, the EPA followed its “historic definition of RACT as the lowest emission limitation that a particular source is capable of meeting by the application of control technology that is reasonably available considering technological and economic feasibility.” 57 FR 13541. Like RACT, the EPA has historically considered RACM to consist of control measures that are reasonably available, considering technological and economic feasibility. See PM2.5 Implementation Rule, 80 FR 15373.

C. Utah's PM2.5 Attainment Plan Submittals

Prior to the January 4, 2013 decision of the DC Circuit Court of Appeals, Utah developed a PM2.5 attainment plan intended to meet the requirements of subpart 1. The EPA submitted written comments dated November 1, 2012 to the Utah Division of Air Quality (DAQ) on Utah's draft PM2.5 SIP, technical support document (TSD), and area source and other rules. After the court's decision, Utah amended its attainment plan to address requirements of subpart 4. On December 2, 2013, the EPA provided comments on Utah's revised draft PM2.5 SIPs for the Salt Lake City and Provo areas, including the TSDs and rules in Section IX, Part H. These written comments from EPA included some comments applicable to the rules we are proposing to act on today. The comment letters can be found within the docket for this action on www.regulations.gov.

In addition to Utah's February 2, 2012 SIP submittal, on May 9, 2013, June 8, 2013, February 18, 2014, April 17, 2014, May 20, 2014, July 10, 2014, August 6, 2014, and December 9, 2014 the State of Utah submitted to EPA various revisions to the Division of Administrative Rules (DAR), Title R307—Environmental Quality, set of rules, most of which are applicable to the Utah SIP for PM2.5 nonattainment areas. The new rules or revised rules we are addressing in this proposed rule were provided by Utah in the nine different submissions listed above, and these rules are: R307-101-2, General Requirements: Definitions; R307-103, Administrative Procedures; R307-303, Commercial Cooking; R307-307, Road Salting and Sanding; R307-312, Aggregate Processing Operations for PM2.5 Nonattainment Areas; R307-328, Gasoline Transfer and Storage; R307-335, Degreasing and Solvent Cleaning Operations; R307-342, Adhesives and Sealants; R307-343 Emissions Standards for Wood Furniture Manufacturing Operations; R307-344, Paper, Film, and Foil Coatings; R307-345, Fabric and Vinyl Coatings; R307-346, Metal Furniture Surface Coatings; R307-347, Large Appliance Surface Coatings; R307-348, Magnet Wire Coatings; R307-349, Flat Wood Panel Coatings; R307-350, Miscellaneous Metal Parts and Products Coatings; R307-351, Graphic Arts; R307-352, Metal Container, Closure, and Coil Coatings; R307-353, Plastic Parts Coatings; R307-354, Automotive Refinishing Coatings; R307-355, Control of Emissions from Aerospace Manufacture and Rework Facilities; R307-356, Appliance Pilot Light; R307-357, Consumer Products; and R307-361, Architectural Coatings.

A previous rule, Rule R307-340 Surface Coating Processes, was replaced in these submittals by the specific rules for coatings listed above. Utah correspondingly repealed R307-340. In addition, Rule R307-342, Adhesives and Sealants, replaces an unrelated rule, R307-342 Qualifications of Contractors and Test Procedures for Vapor Recovery Systems for Gasoline Delivery Tanks. The removal of the previous version of R307-342 is addressed by the State's February 2, 2012 submittal, which repeals R307-342 and amends R307-328, Gasoline Transfer and Storage, to account for the repeal of R307-342.

The final Utah submittal for fourteen of these rules was the December 9, 2014 submittal. The final Utah submittals for the remaining rules were from the February 2, 2012, May 9, 2013, June 8, 2013, February 18, 2014, April 17, 2014, May 20, 2014, July 10, 2014, and August 6, 2014 submittals. For each individual rule, the particular submittal containing the final version of the rule is identified in the technical support document provided in the docket for this proposed action.

III. EPA's Evaluation of Utah's Submittals

The SIP revisions in the February 2, 2012, May 9, 2013, June 8, 2013, February 18, 2014, April 17, 2014, May 20, 2014, July 10, 2014, August 6, 2014, and December 9, 2014 submittals that we are proposing to act on involve revisions to the DAR, Title R307—Environmental Quality, R307-101-2 General Requirements: Definitions; R307-103, Administrative Procedures; and the R307-300 Series; Requirements for Specific Locations (Within Nonattainment and Maintenance Areas). A number of the rules were submitted in multiple submission packages. The final, most recent submission package for each individual rule supersedes earlier submissions, and our proposed determination for each rule takes all changes from those earlier submissions into account. These final rule submissions, except for revisions to R307-101-2, R307-103, and R307-328, and the repeal of R307-342, are submitted and requested for approval as RACM components of the PM2.5 SIP submitted by the State of Utah. EPA is also taking action on two rule revisions that do not pertain to the Utah PM2.5 SIPs which include revisions to R307-328 and the repeal of R307-342. All of these rule revisions found in these submittals can be found on www.regulations.gov.

The rules for RACM for area sources fall into two types. First, there are a number of similar rules for control of VOC emissions. These rules cover categories of area sources that use materials that contain VOCs, and also in some cases categories of area sources that manufacture or produce these materials.² The second type of rule provide specific requirements for emissions of direct PM2.5, VOCs, NOx, and SO2 from a few specific categories of sources.³

² The rules of this type are: R307-335, Degreasing and Solvent Cleaning Operations; R307-342, Adhesives and Sealants; R307-343 Emissions Standards for Wood Furniture Manufacturing Operations; R307-344, Paper, Film, and Foil Coatings; R307-345, Fabric and Vinyl Coatings; R307-346, Metal Furniture Surface Coatings; R307-347, Large Appliance Surface Coatings; R307-348, Magnet Wire Coatings; R307-349, Flat Wood Panel Coatings; R307-350, Miscellaneous Metal Parts and Products Coatings; R307-351, Graphic Arts; R307-352, Metal Container, Closure, and Coil Coatings; R-307-353, Plastic Parts Coatings; R307-354, Automotive Refinishing Coatings; R307-355, Control of Emissions from Aerospace Manufacture and Rework Facilities; R307-357, Consumer Products; and R307-361, Architectural Coatings.

³ The rules of this type are: R307-303, Commercial Cooking; R307-307, Road Salting and Sanding; R307-312, Aggregate Processing Operations for PM2.5 Nonattainment Areas; and R307-357, Appliance Pilot Light.

For the first type of rule, Utah generally allows area sources to comply in two ways. One is through use or production of materials with specified VOC content levels. The other is through use of add-on controls. For use of materials, in most rules sources can demonstrate compliance through manufacturer's data sheets. For add-on controls, the State has provided specific test methods to determine the efficiency of the controls.

The following is a summary of EPA's evaluation of the rule revisions. The details of our evaluation are provided in a TSD that is available in the docket for this action. In general, we reviewed the rules for: enforceability; RACM requirements (for those rules submitted as RACM); and other applicable requirements of the Act.

With respect to enforceability, section 110(a)(2)(A) of the Act requires SIP provisions such as emission limitations to be enforceable, and sections 110(a)(2)(F)(i) and (F)(ii) require plans to contain certain types of provisions related to enforceability, such as source monitoring, as prescribed by the Administrator. 40 CFR part 51, subpart K, Source Surveillance, prescribes requirements that plans must meet in this respect. 40 CFR Section 51.211 requires plans to contain legally enforceable procedures for owners or operators of stationary sources to maintain records and report information to the State in order to determine whether the source is in compliance. 40 CFR Section 51.212 requires plans to, among other things, contain enforceable test methods for each emission limit in the plan. Appropriate test methods may be selected from Appendix M to 40 CFR part 51 or Appendix A to 40 CFR part 60, or a state may use an alternative method following review and approval of that method by the EPA.

Our review of the rules for enforceability revealed a few potential issues. First, certain rules did not clearly identify the test method that should be used to determine compliance. On August 4, 2015, the State provided a clarification letter that addresses this issue. Second, certain rules specified use of an “equivalent method” for compliance. This can create issues for enforceability of the provision under section CAA 110(a)(2)(C), as well as potentially violating the requirement of section 110(i) that SIP requirements for stationary sources can only be changed (with certain limited exceptions) through the SIP revision process. The State has provided a letter on August 4, 2015 that commits to provide a specific SIP revision to either remove the provision for use of an equivalent method, or to specify the other methods that can be used for compliance. Details of our analysis are in the docket for this rulemaking.

For review of the State's RACM analyses, the EPA proposes to adopt the interpretation of RACM set out in the General Preamble, 57 FR 13498, 13540-13544 (April 6, 1992), and described in the March 23, 2015 proposed PM2.5 Implementation Rule. That is, RACM consists of the control measures that are reasonably available considering technological and economic feasibility. This includes EPA's longstanding interpretation that economic feasibility “involves considering the cost of reducing emissions and the difference between the cost of an emissions reduction measure at a particular source and the cost of emissions reduction measures that have been implemented at other similar sources in the same or other areas.” 80 FR 15373-74.

Our detailed review of the State's RACM analyses for the rules we are acting on is provided in a TSD in the docket for this action. We did not review whether Utah's PM2.5 attainment plan as a whole addresses all necessary requirements for RACM under subparts 1 and 4. Based on our review, we are proposing to approve the State's submission that the particular rules we are acting on constitute RACM for the covered source categories, but we are not proposing to approve the PM2.5 attainment plan as a whole with respect to RACM requirements. We will act on the remainder of the attainment plan in a separate action.

Finally, we reviewed all rules for compliance with other requirements of the Act. This review revealed a potential issue with one provision in the general definitions in R307-101-2. The provision defined “PM2.5 precursor” to include specifically only VOC, SO2, and NOX. As a factual matter, ammonia (NH3) is also a precursor to PM2.5, and at a minimum PM2.5 attainment plans should include inventories of all PM2.5 precursors.⁴ However, after review by UDAQ and EPA, we found that this definition was not used anywhere in Utah's SIP and could be removed. On August 4, 2015, the State provided a commitment letter to address the issue by removing the definition of PM2.5 precursor.

⁴ The PM2.5 Implementation Rule proposes options for how states should substantively address control of these precursors.

IV. What action is EPA proposing?

EPA is proposing approval of the revisions to Administrative Rules R307-101-2 and R307-103, along with the additions/revisions/repeals in R307-300 Series; Requirements for Specific Locations (Within Nonattainment and Maintenance Areas), R307-303, R307-307, R307-312 (conditionally approved, see below), R307-335, R307-340 (repealed), R307-342 (repealed and replaced), R307-343, R307-344, R307-345, R307-346, R307-347, R307-348, R307-349, R307-350, R307-351, R307-352, R307-353, R307-354, R307-355, R307-356, R307-357, and R307-361 for incorporation to the Utah SIP as submitted by the State of Utah on May 9, 2013, June 8, 2013, February 18, 2014, April 17, 2014, May 20, 2014, July 10, 2014, August 6, 2014, and December 9, 2014. We are proposing to approve Utah's determination that the above rules in R307-300 Series; Requirements for Specific Locations (Within Nonattainment and Maintenance Areas) constitute RACM for the Utah PM2.5 SIP for the specific source categories addressed; however, we are not proposing to determine that Utah's PM2.5 attainment plan has met all requirements regarding RACM under subparts 1 and 4 of Part D, title I of the Act. We intend to act separately on the remainder of Utah's PM2.5 attainment plan.

EPA is proposing to conditionally approve revisions to R307-312 and R307-328. Additionally, EPA is proposing to conditionally approve Utah's determination that R307-312 constitutes RACM for the Utah PM2.5 SIP for aggregate processing operations. As stated above, we are not proposing to determine that Utah's PM2.5 attainment plan has met all requirements regarding RACM under subparts 1 and 4 of Part D, title I of the Act. Under section 110(k)(4) of the Act, EPA may approve a SIP revision based on a commitment by the State to adopt specific enforceable measures by a date certain, but not later than one year after the date of approval of the plan revision. On August 4, 2015, Utah submitted a commitment letter to adopt and submit specific revisions within one year of our final action on these submittals; specifically to remove the phrase “or equivalent method” in one rule and to specify three equivalent methods in the other rule. If we finalize our proposed conditional approval, Utah must adopt and submit the specific revisions it has committed to within one year of our finalization. If Utah does not submit these revisions within one year, or if we find Utah's revisions to be incomplete, or we disapprove Utah's revisions, this conditional approval will convert to a disapproval. If any of these occur and our conditional approvals convert to a disapproval, that will constitute a disapproval of a required plan element under part D of title I of the Act, which starts an 18-month clock for sanctions, see CAA section 179(a)(2), and the two-year clock for a federal implementation plan (FIP), see CAA section 110(c)(1)(B).

Finally, EPA is proposing to approve the repeal of R307-342, Qualification of Contractors and Test Procedures for Vapor Recovery Systems for Gasoline Delivery Tanks, submitted by DAQ on February 2, 2012.

V. Consideration of Section 110(l) of the CAA

Under section 110(l) of the CAA, the EPA cannot approve a SIP revision if the revision would interfere with any applicable requirements concerning attainment and reasonable further progress toward attainment of the NAAQS, or any other applicable requirement of the Act. In addition, section 110(l) requires that each revision to an implementation plan submitted by a state shall be adopted by the state after reasonable notice and public hearing.

The Utah SIP revisions that the EPA is proposing to approve do not interfere with any applicable requirements of the Act. The DAR section R307-300 Series submitted by the DAQ on May 9, 2013, June 8, 2013, February 18, 2014, April 17, 2014, May 20, 2014, July 10, 2014, August 6, 2014, and December 9, 2014 are intended to strengthen the SIP and to serve as RACM for certain area sources for the Utah PM2.5 SIP. The repeal of R307-340 does not weaken the Utah SIP or the Ozone Maintenance Plan as a number of the new or revised rules addressing surface coatings take the place of R307-340 in total, and are as or more protective than R307-340. The revision to R307-328, Gasoline Transfer and Storage, and the repeal of R307-342, Qualification of Contractors and Test Procedures for Vapor Recovery Systems for Gasoline Delivery Tanks, submitted on by DAQ February 2, 2012, do not weaken the Utah SIP or the Ozone Maintenance Plan, because R307-328 replaces the testing requirements for trucks in R307-342 with the federal Maximum Achievable Control Technology (MACT) requirements. Finally, Utah's submittals provide adequate evidence that the revisions were adopted after reasonable public notices and hearings. Therefore, CAA section 110(l) requirements are satisfied.

VI. Incorporation by Reference

In this rule, the EPA is proposing to include in a final EPA rule regulatory text that includes incorporation by reference. In accordance with requirements of 1 CFR 51.5, the EPA is proposing to incorporate by reference the DAQ rules promulgated in the DAR, R307-300 Series as discussed in section III, EPA's Evaluation of Utah's Submittals, of this preamble. The EPA has made, and will continue to make, these documents generally available electronically through www.regulations.gov and/or in hard copy at the appropriate EPA office (see the ADDRESSES section of this preamble for more information).

VII. Statutory and Executive Order Reviews

Under the Clean Air Act, the Administrator is required to approve a SIP submission that complies with the provisions of the Act and applicable federal regulations. 42 U.S.C. 7410(k); 40 CFR 52.02(a). Thus, in reviewing SIP submissions, EPA's role is to approve state choices, provided that they meet the criteria of the Clean Air Act. Accordingly, this action merely proposes to approve state law as meeting federal requirements and does not impose additional requirements beyond those imposed by state law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Carbon monoxide, Intergovernmental relations, Incorporation by reference, Lead, Nitrogen dioxide, Ozone, Particulate matter, Reporting and recordkeeping requirements, Sulfur oxides, Volatile organization compounds.

Authority: 42 U.S.C. 7401 et seq.

Dated: August 10, 2015.
Debra H. Thomas,
Acting Regional Administrator, Region 8.

[FR Doc. 2015-20895 Filed 8-24-15; 8:45 am]

BILLING CODE 6560-50-P